DEPARTMENT OF ENERGY

Federal Energy Regulatory Commission

Combined Notice of Filings #1

March 25, 2009.

Take notice that the Commission received the following electric corporate filings:

Docket Numbers: EC09-61-000.

Applicants: Dynegy Holdings Inc., Heard County Power, LLC, Dynergy Power Marketing, Inc., Oglethorpe Power Corporation.

Description: Dynegy Holdings, Inc. et al., submits an application for approval for disposition of jurisdictional facilities and request for expedited treatment.

Filed Date: 03/20/2009.

Accession Number: 20090324-0004.

Comment Date: 5 p.m. Eastern Time on Friday, April 10, 2009.

Docket Numbers: EC09-62-000.

Applicants: Spindle Hill Energy LLC, Invenergy Cannon Falls LLC, Hardee Power Partners Limited.

Description: Spindle Hill Energy LLC et al., submits Application for Authorization under Section 203 of the Federal Power Act and Request for waivers and Expedited Action.

Filed Date: 03/23/2009.

Accession Number: 20090324-0282.

Comment Date: 5 p.m. Eastern Time on Monday, April 13, 2009.

Docket Numbers: EC09-63-000.

Applicants: Tuolumne Wind Project, LLC, Windy Point Partners I, LLC.

Description: Tuolumne Wind Project, LLC et al., submits Application for Order Authorizing Disposition of Jurisdictional Facilities Under Section 203 of the Federal Power Act, et al.

Filed Date: 03/23/2009.

Accession Number: 20090324-0256.

Comment Date: 5 p.m. Eastern Time on Monday, April 13, 2009.

Take notice that the Commission received the following electric rate filings:

Docket Numbers: ER08-370-007; EL08-22-005.

Applicants: Midwest Independent Transmission System Operator, Inc; Missouri River Energy Services.

Description: Missouri River Energy Services and the Midwest Independent System Operator, Inc. submits Substitute First Revised Sheet 1365Z.161.01 et al., to FERC Electric Tariff, Third Revised Volume 1.

Filed Date: 03/23/2009.

Accession Number: 20090324-0279.

Comment Date: 5 p.m. Eastern Time on Monday, April 13, 2009.

Docket Numbers: ER08-394-019.

Applicants: Midwest Independent Transmission System Operator, Inc.

Description: Midwest Independent Transmission System Operator, Inc. submits revisions to its Open Access Transmission, Energy and Operating Reserve Markets Tariff to comply with FERC's 2/19/09 Order.

Filed Date: 03/23/2009.

Accession Number: 20090324-0289.

Comment Date: 5 p.m. Eastern Time on Monday, April 13, 2009.

Docket Numbers: ER08-637-007.

Applicants: Midwest Independent Transmission System Operator, Inc.

Description: Midwest Independent Transmission System Operator, Inc. submits compliance filing removing references to Market Coordination Service in its Open Access Transmission, Energy and Operating Reserve Markets Tariff.

Filed Date: 03/23/2009.

Accession Number: 20090324-0297.

Comment Date: 5 p.m. Eastern Time on Monday, April 13, 2009.

Docket Numbers: ER09-240-002.

Applicants: California Independent System Operator Corporation.

Description: California Independent System Operator Corp. submits compliance filing addressing the ISO's MRTU Tariff Amendment regarding market parameters.

Filed Date: 03/23/2009.

Accession Number: 20090324-0296.

Comment Date: 5 p.m. Eastern Time on Monday, April 13, 2009.

Docket Numbers: ER09-444-001.

Applicants: Southwest Power Pool, Inc.

Description: Southwest Power Pool, Inc. submits Substitute First Revised Sheet 42 et al., to FERC Electric Tariff, Fifth Revised Volume 1 effective 2/20/09.

Filed Date: 03/23/2009.

Accession Number: 20090324-0280.

Comment Date: 5 p.m. Eastern Time on Monday, April 13, 2009.

Docket Numbers: ER09-875-000.

Applicants: Wisconsin Electric Power Company.

Description: Wisconsin Electric Power Company submits Data Transfer Service Agreement with Northbrook Wisconsin, LLC, FERC Tariff 122.

Filed Date: 03/23/2009.

Accession Number: 20090324-0293.

Comment Date: 5 p.m. Eastern Time on Monday, April 13, 2009.

Docket Numbers: ER09-876-000.

Applicants: PJM Interconnection LLC.

Description: PJM Interconnection, LLC submits Fourth Revised Sheet 523I.05a to FERC Electric Tariff, Sixth Revised Volume 1 to PJM's credit policy that credit and financial responsibility for planned RPM Capacity Resources.

Filed Date: 03/23/2009.

Accession Number: 20090324-0292.

Comment Date: 5 p.m. Eastern Time on Monday, April 13, 2009.

Docket Numbers: ER09-877-000.

Applicants: Entergy Arkansas, Inc.

Description: Entergy Arkansas, Inc. submits the 2009 Wholesale Formula Rate Update.

Filed Date: 03/23/2009.

Accession Number: 20090324-0275.

Comment Date: 5 p.m. Eastern Time on Monday, April 13, 2009.

Docket Numbers: ER09-879-000.

Applicants: Avista Corporation.

Description: Avista Corporation submits Amendment No. 4 to Avista Corporation Rate Schedule FERC No. 190, the Colstrip Project Transmission Agreement, etc.

Filed Date: 03/20/2009.

Accession Number: 20090324-0281.

Comment Date: 5 p.m. Eastern Time on Friday, April 10, 2009.

Docket Numbers: ER09-880-000; ER96-496-018.

Applicants: Northeast Utilities Service Company.

Description: Northeast Utilities Service Company submits Revised Sheet 2 to FERC Electric Tariff, Fourth Revised Volume 7 which cancels Original Sheet 1 to FERC Electric Tariff, Original Volume 6.

Filed Date: 03/23/2009.

Accession Number: 20090324-0253.

Comment Date: 5 p.m. Eastern Time on Monday, April 13, 2009.

Docket Numbers: ER09-881-000.

Applicants: American Electric Power Services Corporation.

Description: American Electric Power Service Corporation submits First Revised Sheet 1 that supersedes Original Sheet 1 to FERC Electric Tariff, Sixth Revised Volume 1 effective 3/1/09 re Service Agreement with Old Dominion Electric Cooperative.

Filed Date: 03/23/2009.

Accession Number: 20090324-0251.

Comment Date: 5 p.m. Eastern Time on Monday, April 13, 2009.

Docket Numbers: ER09-882-000.

Applicants: Entergy Arkansas, Inc.

Description: Entergy Arkansas, Inc. submits 2009 wholesale formula rate update for Arkansas Electric Cooperative Corporation.

Filed Date: 03/23/2009.

Accession Number: 20090324-0291.

Comment Date: 5 p.m. Eastern Time on Monday, April 13, 2009.

Docket Numbers: ER09-883-000.

Applicants: Southwest Power Pool, Inc.

Description: Southwest Power Pool, Inc. submits executed Meter Agent Services Agreement between The Energy Authority as the Market Participant and Westar Energy, Inc. as the Meter Agent, effective 3/1/09.

Filed Date: 03/23/2009.

Accession Number: 20090324-0290.

Comment Date: 5 p.m. Eastern Time on Monday, April 13, 2009.

Docket Numbers: ER09-885-000.

Applicants: Duke Energy Indiana, Inc.

Description: Duke Energy Indiana, Inc. submits summary schedules for the Transmission and Local Facilities Agreement for Calendar Year 2007 between Duke Energy and Wabash Valley Power Association, Inc.

Filed Date: 03/24/2009.

Accession Number: 20090325-0129.

Comment Date: 5 p.m. Eastern Time on Tuesday, April 14, 2009.

Take notice that the Commission received the following electric reliability filings:

Docket Numbers: RR09-3-000.

Applicants: North American Electric Reliability Corporation.

Description: Petition of the North American Electric Reliability Corporation for Approval of Proposed Revisions to the Bylaws of Reliabilityfirst Corporation.

Filed Date: 03/24/2009.

Accession Number: 20090324-5100.

Comment Date: 5 p.m. Eastern Time on Tuesday, April 14, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-7285 Filed 3-31-09; 8:45 am]

BILLING CODE 6717-01-P